DEPARTMENT OF TRANSPORTATION

Federal Highway Administration

Environmental Impact Statement; Humboldt County, California

AGENCY: Federal Highway Administration (FHWA), DOT.

ACTION: Notice of intent.

SUMMARY: The FHWA is issuing this notice to advise the public that an Environmental Impact Statement will be prepared for a proposed Route 101 project in Humboldt County in the Cities of Eureka and Arcata, and vicinity.

FOR FURTHER INFORMATION CONTACT: R.C. Slovensky, Acting Program Delivery Team Leader, North, Federal Highway Administration, 980 Ninth Street, Suite 400, Sacramento, CA 95814-2724, telephone (916) 498-5774. Kim Floyd, California Department of Transportation Project Manager, P.O. Box 3700, Eureka, CA 95502-3700, telephone (707) 441-5739.

SUPPLEMENTARY INFORMATION: Route 101 is part of the National Highway System and is a principal arterial route. The route is often referred to as the “lifeline of the North Coast” since it is the north coast's most important interregional route, serving as the connector to the Santa Rosa/San Francisco metropolitan areas to the south and the State of Oregon to the north. It is heavily used for the transportation of intercity/interstate commerce as well as being the principal route to many north coast recreational areas including State and National parks, rivers, ocean fishing, and beach areas. North of San Francisco, it is the second most heavily traveled non-freeway segment on Route 101 within California.

The proposed project limits extend from the intersection of State Route 255 in City of Eureka to the State Route 255 interchange in the City of Arcata along the Route 101 corridor from KP 127.5 to KP 138.1 (PM 79.2 to PM 85.8) in Humboldt County. The existing Route 101 corridor within these limits consists of two one-way arterials, a four-lane expressway, and a four-lane freeway.

The proposed Eureka-Arcata Corridor Improvement Project consists of the following:

1. Construct an interchange at Route 101 and Indianola Road;

2. Within existing expressway segments, all median crossings would be closed;

3. All existing at-grade access would be restricted to right-turn on/off movements only;

4. Acceleration and deceleration lanes would be lengthened at all access locations if needed;

5. The median width could be reduced.

In addition to the proposed project and No-Build Alternative, alternatives, including upgrade to freeway, that will meet the project purpose and need will be evaluated during the EIS process. Alternatives with substantially higher cost or with extensive environmental impacts will be considered infeasible and not be considered for further study.

Letters describing the proposed action and soliciting comments will be sent to appropriate Federal, State, and local agencies, and to private organizations and citizens who have previously expressed or are known to have an interest in this proposal. A scoping meeting is scheduled from 5 to 8 pm on September 20, 2001 at the Eureka Public Marina Wharfinger Building #1 Marina Way, in Eureka, CA.

Public notice will be given of the time and place of the scoping meeting. To ensure that the full range of issues related to this proposed action are addressed and all significant issues identified, comments and suggestion are invited from all interested parties. The views of agencies which may have knowledge about historic resources potentially affected by the proposal or interest in the effects of the proposal on historic properties are specifically solicited. Comments or question concerning this proposed action and the EIS should be directed to the FHWA at the address provided above by October 30, 2001.

Catalog of Federal Domestic Assistance Program Number 20.205, Highway Research, Planning and Construction. The regulations implementing Executive Order 12372 regarding intergovernmental consultation Federal programs and activities apply to this program.

Issued on: August 13, 2001.
R. Clayton Slovensky,
Acting Program Delivery Team Leader, North Sacramento, California.

[FR Doc. 01-22028 Filed 8-30-01; 8:45 am]

BILLING CODE 4910-22-M